DEPARTMENT OF THE INTERIOR

Fish and Wildlife Service

Red River National Wildlife Refuge

AGENCY: Fish and Wildlife Service, Interior.

ACTION: Notice of intent to prepare a Draft Comprehensive Conservation Plan and Environmental Assessment for the Red River National Wildlife Refuge in Louisiana.

SUMMARY: This notice advises the public that the Fish and Wildlife Service, Southeast Region, intends to gather information necessary to prepare a comprehensive conservation plan and environmental assessment pursuant to the National Environmental Policy Act and its implementing regulations.

The National Wildlife Refuge System Administration Act of 1966, as amended by the National Wildlife Refuge System Improvement Act of 1997, requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitat, plans identify wildlife-dependent recreational opportunities available to the public, including opportunities for hunting, fishing, wildlife observation, wildlife photography, and environmental education and interpretation.

The purpose of this notice is to achieve the following:

(1) Advise other agencies and the public of our intentions, and

(2) Obtain suggestions and information on the scope of issues to include in the environmental document.

DATES: Announcements will inform people of opportunities for written input throughout the planning process. Public scoping meetings are planned and will be announced in local newspapers approximately 10 days prior to the meetings.

ADDRESSES: Comments and requests for more information regarding the Red River National Wildlife Refuge planning process should be sent to: Lindy Garner, Natural Resource Planner, North Louisiana National Wildlife Refuge Complex, 11372 Highway 143, Farmerville, Louisiana 71241; Telephone: (318) 762-4222, ext. 5; Fax: (318) 726-4667; E-mail: northlarefuges@fws.gov. To ensure consideration, written comments must be received no later than April 12, 2006.

SUPPLEMENTARY INFORMATION: The refuge was created by Congress on October 13, 2000, with the passage of the Red River National Wildlife Refuge Act. Land acquisition for the refuge commenced in August 2002. There are three purposes of the refuge, as stated in the Red River National Wildlife Refuge Act:

• To provide for the restoration and conservation of native plants and animal communities on suitable sites in the Red River basin, including restoration of extirpated species.

• To provide habitat for migratory birds, and

• To provide technical assistance to private landowners in the restoration of their lands for the benefit of fish and wildlife.

The refuge's enabling legislation authorizes it to acquire up to approximately 50,000 acres of Federal lands and waters along that section of the Red River between Colfax, Louisiana, and the Arkansas state line, a distance of approximately 120 miles. the refuge growth will be strategically planned within the following five focus units:

• Lower Cane River (Natchitoches Parish).

• Spanish Lake Lowlands (Natchitoches Parish).

• Bayou Pierre Floodplain (Desoto and Red River Parishes).

• Headquarters Site (Bossier Parish).

• Wardview (Caddo Parish).

Currently, the refuge consists of 7,721 acres of fee title lands comprised of restored bottomland hardwood forest, moist soils, shrub/scrub, and fallow agricultural lands within four of the separate units. A headquarters/visitor center site is included near Shreveport/Bossier City. Another 1,100 acres of lands are under a management agreement at the Spanish Lake Lowlands Unit.

The Service will conduct a comprehensive conservation planning process that will provide opportunity for state and local government agencies, organizations, and the public to participate in issue scoping and public comment. Comments received by the planning team will be used as part ot the planning process. All comments received from individuals become part of the official public record. Requests for such comments will be handled in accordance with the Freedom of Information Act and the Council on Environmental Quality's NEPA regulations [40 CFR 1506.6(f)].

Authority: This notice is published under the authority of the National Wildlife Refuge System Improvement Act of 1997, Public Law 105-57.

Dated: February 21, 2006.
Cynthia K. Dohner,
Acting Regional Director.

[FR Doc. 06-2360 Filed 3-10-06; 8:45 am]

BILLING CODE 4310-55-M